COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before December 15, 2017.

ADDRESSES: Comments regarding the burden estimate or any other aspect of the information collection, including suggestions for reducing the burden, may be submitted directly to the Office of Information and Regulatory Affairs (OIRA) in OMB within 30 days of this notice's publication by either of the following methods. Please identify the comments by “OMB Control No. 3038-XXXX.”

• By email addressed to: OIRAsubmissions@omb.eop.gov or

• By mail addressed to: The Office of Information and Regulatory Affairs, Office of Management and Budget, Attention Desk Officer for the Commodity Futures Trading Commission, 725 17th Street NW., Washington, DC 20503.

A copy of all comments submitted to OIRA should be sent to the Commodity Futures Trading Commission (the “Commission”) by either of the following methods. The copies should refer to “OMB Control No. 3038-XXXX.”

• By mail addressed to: Christopher Kirkpatrick, Secretary of the Commission, Commodity Futures Trading Commission, Three Lafayette Centre, 1155 21st Street NW., Washington, DC 20581;

• By Hand Delivery/Courier to the same address; or

• Through the Commission's Web site at http://comments.cftc.gov. Please follow the instructions for submitting comments through the Web site.

A copy of the supporting statements for the collection of information discussed herein may be obtained by visiting http://RegInfo.gov.

All comments must be submitted in English, or if not, accompanied by an English translation. Comments will be posted as received to http://www.cftc.gov. You should submit only information that you wish to make available publicly. If you wish the Commission to consider information that you believe is exempt from disclosure under the Freedom of Information Act, a petition for confidential treatment of the exempt information may be submitted according to the procedures established in § 145.9 of the Commission's regulations.¹ The Commission reserves the right, but shall have no obligation, to review, pre-screen, filter, redact, refuse or remove any or all of your submission from http://www.cftc.gov that it may deem to be inappropriate for publication, such as obscene language. All submissions that have been redacted or removed that contain comments on the merits of the ICR will be retained in the public comment file and will be considered as required under the Administrative Procedure Act and other applicable laws, and may be accessible under the Freedom of Information Act.

¹ 17 CFR 145.9.

FOR FURTHER INFORMATION CONTACT: Eugene Smith, Director, Office of Proceedings, Commodity Futures Trading Commission, (202) 418-5371; email: esmith@cftc.gov, and refer to OMB Control No. 3038-XXXX.

SUPPLEMENTARY INFORMATION: Title: Reparations Complaint, CFTC Form 30 (OMB Control No. 3038-XXXX). This is a request for approval of a new information collection.

Abstract: Pursuant to Section 14 of the Commodity Exchange Act, members of the public may apply to the Commission to seek damages against Commission registrants for alleged violations of the Act and/or Commission regulations. The legislative intent of the Reparations program was to provide a low-cost, speedy, and effective forum for the resolution of customer complaints and to sanction individuals and firms found to have violated the Act and/or any regulations.

In 1984, the Commission promulgated Part 12 of the Commission regulations to administer Section 14. Rule 12.13 provides the standards and procedures for filing a Reparations complaint. Specifically, subparagraph (b) describes the form and content requirements of a complaint. CFTC Form 30 mirrors the requirements set forth in subparagraph (b).

The Commission began utilizing Form 30 in or about 1984. The form was created to assist customers, who are typically pro se and non-lawyers. It was also designed as a way to provide proper notice to respondents of the charges against them. This form is critical to fulfilling this policy goal. Accordingly, the Commission is requesting an OMB control number to continue the use of Form 30.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on September 1, 2017 (82 FR 41614). The Commission did not receive any relevant comments on the 60-day notice.

Burden Statement: The respondent burden for this collection is estimated to be as follows:

Respondents/Affected Entities: Commodity futures customers.

Estimated Number of Respondents: 15.

Estimated Average Burden Hours per Respondent: 1.5.

Estimated Total Annual Burden Hours: 22.5.

Frequency of Collection: Once.

There are no capital costs or operating and maintenance costs associated with this collection.

(Authority: 44 U.S.C. 3501 et seq.)

Dated: November 8, 2017.
Robert N. Sidman,
Deputy Secretary of the Commission.

Note: The following appendix will not appear in the Code of Federal Regulations.

Appendix to Agency Information Collection Activities Under OMB Review—CFTC Form 30

BILLING CODE 6351-01-P

[FR Doc. 2017-24683 Filed 11-14-17; 8:45 am]

BILLING CODE 6351-01-C